DEPARTMENT OF LABOR

Employment and Training Administration

[TA-W-51,129]

CERF Brothers Bag Company Vandalia, Missouri; Notice of Termination of Investigation

Pursuant to Section 221 of the Trade Act of 1974, an investigation was initiated on March 11, 2003 in response to a worker petition which was filed by a company official on behalf of workers at Cerf Brothers Bag Company, Vandalia, Missouri, (TA-W-51,129) and Cerf Brothers Bag Company, New London, Missouri.

The petitioner has requested that the petition be withdrawn. Consequently, further investigation in this case would serve no purpose, and the investigation has been terminated.

Signed in Washington, DC this 9th day of May 2003.
Linda G. Poole,
Certifying Officer, Division of Trade Adjustment Assistance.

[FR Doc. 03-12560 Filed 5-19-03; 8:45 am]

BILLING CODE 4510-30-P